DEPARTMENT OF AGRICULTURE

Forest Service

Rogue River-Siskiyou National Forest, Powers Ranger District, Coos County, OR; Eden Ridge Timber Sales

AGENCY: Forest Service, USDA.

ACTION: Notice of intent to prepare an environmental impact statement.

SUMMARY: The USDA, Forest Service, will prepare an Environmental Impact Statement (EIS) on proposed variable density thinning treatments designed to control stocking and maintain or improve overall forest vigor and resiliency within a 6,516-acre planning area known as Eden Ridge. Timber harvested from stand treatments will contribute commercial timber to the Forest's Probable Sale Quantity. The planning area is located approximately four (4) air miles southeast of the city of Powers, Oregon, on the Powers Ranger District. The district proposes timber harvest and other connected activities on approximately 3,650 acres in stands regenerated from timber harvested around the 1920s and 1930s. Candidate stands located on suitable forest land within the planning area are proposed for treatment that are designated as Matrix, with some minor amounts of Riparian Reserve under the Land and Resource Management Plan as amended by the Northwest Forest Plan. Approximately seventy-two (72) treatment units would be designed for timber harvest with associated harvest systems that would use a combination of ground-based, skyline and helicopter operations depending on soil, slope and hydrological concerns. New system road construction, reconstruction of unclassified roads and/or construction of new temporary roads to facilitate treatments within the potential units are to be considered (approximately 8 miles). In addition, reconstruction and/or maintenance of existing system roads will be considered (approximately 22 miles). It is estimated the project could produce up to 55 million board feet from the 3,650 acres being considered, from multiple timber sales over a 5-year period. The alternatives will include the proposed action, no action, and additional alternatives that respond to issues generated through the scoping process. The agency will give notice of the full environmental analysis and decision making process so interested and affected people may participate and contribute to the final decision.

DATES: Comments concerning the scope of the analysis must be received by 30 days from date of publication in the Federal Register. The draft environmental impact statement is expected September 2010 and the final environmental impact statement is expected January 2011.

ADDRESSES: Send written comments concerning this proposal to District Ranger, Powers Ranger District, 42861 Highway 242, Powers, OR 97466-9700. Comments may also be sent via e-mail to comments-pacificnorthwest-siskiyou-powers@fs.fed.us or via facsimile to (541) 439-7704. It is important that reviewers provide their comments at such times and in such a way that they are useful to the Agency's preparation of the EIS. Therefore, comments should be provided prior to the close of the scoping period and should clearly articulate the reviewer's concerns and contentions. Comments received in response to this solicitation, including names and addresses of those who comment, will be part of the public record for this proposed action. Comments submitted anonymously will be accepted and considered, however.

FOR FURTHER INFORMATION CONTACT: For information about the proposal, contact Steve Boyer, Interdisciplinary Team Leader, phone (541) 247-3686, e-mail sthoyer@fs.fed.us.

SUPPLEMENTARY INFORMATION: The 6,516 acre Eden Ridge planning area is located approximately four (4) air miles southeast of the city of Powers, Oregon at the closest point, with a legal description of: Township 31 South, Range 10 West, Sections 9, 15, 16, 17, 18, 19, 20, 21, 29 and 30; and Township 31 South, Range 11 West, Sections 24, 25, 26, and 27; Willamette Meridian; Coos County, Oregon. The planning area falls within the South Fork Coquille River and the Middle Fork Coquille River 5th-Field watersheds, and the Lower Rock Creek, Myrtle Creek, Headwaters South Fork Coquille River, Coal Creek, and Mill Creek 6th field watersheds. Watershed Analyses have been conducted within these drainages and contain a synthesis of scientific knowledge about watershed trends and conditions at 5th field watershed scales as well as by smaller 6th field sub-watersheds. Elevations range from 2,500 to 3,500 feet. The planning area does not include any designated Wilderness, Research Natural Areas, Botanical Areas, or Inventoried Roadless Areas. Special wildlife areas (MA 9) do exist within the planning area but are excluded from proposed treatments.

Purpose and Need for Action

The overall Purpose of this project is to implement direction from the 1989 Land and Resource Management Plan for the Siskiyou National Forest, as amended by the 1994 Northwest Forest Plan. The majority of the Eden Ridge Timber Sales proposal is located on lands allocated to Matrix which emphasizes obtaining a full yield of timber within the capability of the land. Most scheduled timber harvest and other silvicultural activities would be conducted in that portion of the Matrix with suitable forest lands (NW Forest Plan, page C-39). Specifically for the Eden Ridge Timber Sales project, Needs include: Improvement of Overall Forest Vigor and Resiliency—There is a need to reduce stand densities so that individual tree growth would improve and maintain vigor. Trees would be allowed to grow at a faster rate than if left to natural succession processes. The residual trees would have less competition for sunlight, water and soil nutrients. Maintain or improve forest diversity by retaining any larger open-grown and legacy trees, minor tree species (including all hardwoods), existing snags and coarse woody debris. Such vigor and diversity would create a more resilient forest that would be capable to survive or recover more quickly from natural disturbances such as drought, wind, insects, disease or fire. Contribution of Commercial Timber to the Probable Sale Quantity—The proposed project is primarily located on lands allocated to Matrix and therefore considered as part of the overall Rogue River-Siskiyou National Forest Probable Sale Quantity (PSQ). PSQ is the estimated output of commercial timber and other commodities assigned to the Forest under the Northwest Forest Plan.

Specific stand management objectives associated with the Purpose and Need for this proposal include:

• Maintenance or improvement of forest health and diversity within Matrix and Riparian Reserve land allocations. This typically means individual tree and overall stand diameter growth, crown development, vigor and overall stand health, improved root strength on residual trees;

• Improve habitat conditions for wildlife and fish. This means increasing vegetative and structural diversity and species; maintained or improved shading capability of streams; improved large wood retention and large wood recruitment, and providing suitable amounts of snags and/or replacement habitat for dependent species;

• Reduce the risk of effects from insect and disease infestations;

• Minimize or reduce the potential for high severity, stand replacement wildfires;

• Increase riparian vegetation quality, health and vigor including Port-Orford-cedar, where it occurs as a substantial portion of riparian vegetation; and

• Contribute to a predictable and sustainable level of timber commodities and human and economic dimensions.

In enacting treatments in stands to attain these objectives, the project and/or its activities would be designed to:

• Minimize soil impacts (erosion, compaction and/or displacement);

• Minimize damage to residual trees during treatment;

• Maintain aquatic conditions in terms of attainment of the Aquatic Conservation Strategy Objectives;

• Minimize adverse effects, including cumulative effects, on all other resources;

• Provide wood products for local and regional markets (including firewood); and

• Be an operational and economically sustainable project.

Responsible Official: W. Carl Linderman, Powers District Ranger, Rogue River-Siskiyou National Forest, is the responsible official for this project.

Nature of Decision To Be Made

The Powers District Ranger will decide whether to implement the action as proposed, whether to take no action at this time, or whether to implement any alternatives that are proposed.

Scoping Process

This notice of intent initiates the scoping process, which guides the development of the environmental impact statement. It is important that reviewers provide their comments at such times and in such manner that they are useful to the agency's preparation of the environmental impact statement.

Comment Requested

The comment period on the draft EIS will be 45 days from the date the EPA publishes the notice of availability in the Federal Register. The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement, Reviewers may wish to refer to the Council on Environmental Quality Regulations for implementing the procedural provisions of the National Environmental Policy Act at 40 CFR 1503.3 in addressing these points.

In the final EIS, the Forest Service is required to respond to substantive comments received during the comment period for the draft EIS.

The Eden Ridge Timber Sales decision and the reasons for the decision will be documented in a record of decision. That decision will be subject to Forest Service Appeal Regulations (35 CFR Part 215).

Dated: April 13, 2010.
W. Carl Linderman,
District Ranger.

[FR Doc. 2010-9437 Filed 4-23-10; 8:45 am]

BILLING CODE 3410-11-M